DEPARTMENT OF TRANSPORTATION

Federal Aviation Administration

14 CFR Part 73

[Docket No. FAA-2014-0722; Airspace Docket No. 14-AWP-9]

RIN 2120-AA66

Change of Controlling Agency for Restricted Areas; California

AGENCY: Federal Aviation Administration (FAA), DOT.

ACTION: Final rule; technical amendment.

SUMMARY: This action updates the name of the controlling agency for restricted areas R-2502N Fort Irwin, CA; R-2505 China Lake, CA; R-2506 China Lake South, CA; R-2508 Complex, CA; R-2515 Muroc Lake, CA and R-2524 Trona, CA to read “FAA, Joshua Control Facility, Edwards AFB, CA.” This is an administrative change only as there are no changes to the dimensions, time of designation or activities conducted within the affected restricted areas.

DATES: Effective date: 0901 UTC, January 8, 2015.

FOR FURTHER INFORMATION CONTACT: Jason Stahl, Airspace Policy and Regulations Group, Office of Airspace Services, Federal Aviation Administration, 800 Independence Avenue SW., Washington, DC 20591; telephone: (202) 267-8783.

SUPPLEMENTARY INFORMATION:

The Rule

This action amends Title 14 Code of Federal Regulations (14 CFR) part 73 by amending the controlling agency name for the following Restricted Areas located in California: R-2502N Fort Irwin, CA, R-2505 China Lake, CA, R-2506 China Lake South, CA, R-2508 Complex, CA, R-2515 Muroc Lake, CA, and R-2524 Trona, CA. The controlling agency for these restricted areas is changed from “FAA, Hi-Desert TRACON, Edwards AFB, CA” to “FAA, Joshua Control Facility, Edwards AFB, CA.”

This is an administrative change to update the name of the controlling agency for the above listed restricted areas. It does not affect the boundaries, designated altitudes, or activities conducted within the restricted areas; therefore, notice and public procedure under 5 U.S.C. 553(b) are unnecessary.

The FAA has determined that this action only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends the descriptions of restricted areas to reflect current facility names.

Environmental Review

The FAA has determined that this action qualifies for categorical exclusion under the National Environmental Policy Act in accordance with FAA Order 1050.1E, Environmental Impacts: Policies and Procedures, paragraph 311d. This airspace action is an administrative change to the descriptions of the affected restricted areas to update the controlling agency name. It does not alter the dimensions, altitudes, or times of designation of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2502N Fort Irwin, CA [Amended]

By removing the current controlling agency and adding in its place:

“Controlling agency. FAA, Joshua Control Facility, Edwards AFB, CA.”

* * * * *

R-2505 China Lake, CA [Amended]

By removing the current controlling agency and adding in its place:

“Controlling agency. FAA, Joshua Control Facility, Edwards AFB, CA.”

R-2506 China Lake South, CA [Amended]

By removing the current controlling agency and adding in its place:

“Controlling agency. FAA, Joshua Control Facility, Edwards AFB, CA.”

* * * * *

R-2508 Complex, CA [Amended]

By removing the current controlling agency and adding in its place:

“Controlling agency. FAA, Joshua Control Facility, Edwards AFB, CA.”

* * * * *

R-2515 Muroc Lake, CA [Amended]

By removing the current controlling agency and adding in its place:

“Controlling agency. FAA, Joshua Control Facility, Edwards AFB, CA.”

* * * * *

R-2524 Trona, CA [Amended]

By removing the current controlling agency and adding in its place:

“Controlling agency. FAA, Joshua Control Facility, Edwards AFB, CA.”

* * * * *

Issued in Washington, DC, on September 25, 2014.
Gary A. Norek,
Manager, Airspace Policy Regulations Group.

[FR Doc. 2014-23662 Filed 10-2-14; 8:45 am]

BILLING CODE 4910-13-P